DEPARTMENT OF THE INTERIOR

Geological Survey

[GX16EE000101100]

Announcement of National Geospatial Advisory Committee Meeting

AGENCY: U.S. Geological Survey, Interior.

ACTION: Notice of meeting.

SUMMARY: The National Geospatial Advisory Committee (NGAC) will meet on April 6-7, 2016 at the Department of the Interior Building, 1849 C Street NW., Washington, DC 20240. The meeting will be held in the South Penthouse Conference Room.

DATES: The meeting will be held from 1:00 p.m. to 5:30 p.m. on April 6 and from 8:30 a.m. to 4:00 p.m. on April 7.

FOR FURTHER INFORMATION CONTACT: John Mahoney, U.S. Geological Survey (206-220-4621).

SUPPLEMENTARY INFORMATION: Meetings of the National Geospatial Advisory Committee are open to the public. Additional information about the NGAC and the meeting are available at www.fgdc.gov/ngac.

The NGAC, which is composed of representatives from governmental, private sector, non-profit, and academic organizations, has been established to advise the Chair of the Federal Geographic Data Committee on management of Federal geospatial programs, the development of the National Spatial Data Infrastructure, and the implementation of Office of Management and Budget (OMB) Circular A-16. Topics to be addressed at the meeting include:

—Leadership Dialogue

—FGDC Update

—FGDC 2016 Guidance

—NSDI Strategic Plan Framework

—NGAC Subcommittee Activities

Members of the public who wish to attend the meeting must register in advance for entrance. Please register by contacting Lucia Foulkes at the Federal Geographic Data Committee (703-648-4142, lfoulkes@usgs.gov). Registrations are due by April 1, 2016. While the meeting will be open to the public, registration is required for entrance to the Department of the Interior Building, and seating may be limited due to room capacity.

The meeting will include an opportunity for public comment on April 7. Attendees wishing to provide public comment should register by April 1. Please register by contacting Lucia Foulkes at the Federal Geographic Data Committee (703-648-4142, lfoulkes@usgs.gov). Comments may also be submitted to the NGAC in writing.

Kenneth Shaffer,
Deputy Executive Director, Federal Geographic Data Committee.

[FR Doc. 2016-05578 Filed 3-11-16; 8:45 am]

BILLING CODE 4338-11-P